DEPARTMENT OF TRANSPORTATION

Federal Aviation Administration

Third Meeting, Special Committee 215, Aeronautical Mobile Satellite (Route) Services, Next Generation Satellite Services and Equipment

AGENCY: Federal Aviation Administration (FAA), DOT.

SUMMARY: The FAA is issuing this notice to advise the public of RTCA Special Committee 215, Aeronautical Mobile Satellite (Route) Services, Next Generation Satellite Services and Equipment.

DATES: The meeting will be held September 6-7, 2007, at 9 a.m.

ADDRESSES: The meeting will be held at RTCA, Inc., 1828 L Street, NW., Washington, DC 20036-5133.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 212 meeting. The agenda will include:

• September 6:

• Opening Plenary Session (Welcome, Introductions, and Administrative Remarks, Secretary Selection, Agenda Overview).

• FAA Issue Table—Outstanding Actions.

• NSF-Radio Astronomy Issue.

• DO-262—Reports from Drafting Groups; Review of Drafts.

• Revised Outline of DO-262 Normative Appendix.

• Overview.

• Avionics Subsystem Definitions/Overall Requirements; Avionics Design and Performance.

• Antenna.

• Transceiver.

• Avionics Equipment Performance Verification.

• Aircraft Installation Design Requirements.

• Requirements Mapping.

• DO-270.

• Discussion of Requirements for Normative Appendix.

• Review of DO-270 and ICAO Validation Report Mapping.

• Inmarsat-Iridium Interference Analysis.

• September 7:

• Closing Plenary Session (Other Business, Establish Agenda, Date and Place of Next Meeting, Adjourn).

Attendance is open to the interested public but limited to space availability. Pre-registration for this meeting is not required for attendance but is desired and can be done through the RTCA secretariat. With the approval of the chairmen, members of the public may present oral statements at the meeting.

Persons wishing to present statements or obtain information should contact the person listed in the FOR FURTHER INFORMATION CONTACT section. Members of the public may present a written statement to the committee at any time.

Issued in Washington, DC, on August 6, 2007.
Francisco Estrada C.,
RTCA Advisory Committee.

[FR Doc. 07-3973 Filed 8-14-07; 8:45 am]

BILLING CODE 4910-13-M